DEPARTMENT OF HEALTH AND HUMAN SERVICES

National Institutes of Health

Center for Scientific Review, Amended Notice of Meeting

Notice is hereby given of a change in the meeting of the Center for Scientific Review Special Emphasis Panel, April 5, 2001, 12:00 p.m. to April 5, 2001, 3:00 p.m., NIH, Rockledge 2, Bethesda, MD, 20892 which was published in the Federal Register on April 5, 2001, 66 FR 18105-18106.

The meeting will be held April 10, 2001, from 2:00 p.m. to 5:00 p.m. The location remains the same. The meeting is closed to the public.

Dated: April 6, 2001.
LaVerne Y. Stringfield,
Director, Office of Federal Advisory Committee Policy.

[FR Doc. 01-9253 Filed 4-12-01; 8:45 am]

BILLING CODE 4140-01-M